DEPARTMENT OF THE INTERIOR

Office of the Secretary

[24XD4523WS/DWSN00000.000000/DS61500000/DP.61501]

Notice of Public Meeting of the Invasive Species Advisory Committee

AGENCY: National Invasive Species Council, Interior.

ACTION: Notice of public meeting.

SUMMARY: Pursuant to the provisions of the Federal Advisory Committee Act, notice is hereby given that a meeting of the Invasive Species Advisory Committee (ISAC) will meet as indicated below.

DATES: The Invasive Species Advisory Committee will convene in-person on Monday, November 13, 2023, 9:00 a.m.-5:00 p.m. (ET); Tuesday, November 14, 2023, 9:00 a.m.-5:00 p.m. (ET); and, Wednesday, November 15, 2023; 9:00 a.m.-1:00 p.m. (ET). The general session proceedings will also be streamed virtually via Zoom webinar. NOTE: Virtual access to the general session portions of the meeting will be in “listen only” mode. Registration is required at: https://forms.office.com/g/5TwFXSkEpf.

ADDRESSES: U.S. Department of the Interior, 1849 C Street NW, Washington, DC 20240. Meeting will be held in the North Penthouse. All registered in-person attendees must pass through security screening upon entering the facility.

FOR FURTHER INFORMATION CONTACT: For information concerning attending the ISAC meeting, submitting written comments to the ISAC, or requesting to address the ISAC, contact Kelsey Brantley, NISC Operations Director and ISAC Coordinator, National Invasive Species Council Staff, telephone (202) 577-7012; fax: (202) 208-4118, or email kelsey_brantley@ios.doi.gov.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The purpose of the ISAC is to provide advice to the NISC, as authorized by Executive Orders 13112 and 13751, on a broad array of issues related to preventing the introduction of invasive species and providing for their control and minimizing the economic, ecological, and human health impacts that invasive species cause. NISC is co-chaired by the Secretary of the Interior, the Secretary of Agriculture, and the Secretary of Commerce. The duty of NISC is to provide national leadership regarding invasive species issues.

The purpose of an in-person meeting on Monday, November 13, 2023 through Wednesday, November 15, 2023 is to convene the full ISAC to finalize and formally approve deliverables developed by its subcommittees on three (3) topics requested by NISC: (1) the impacts of invasive species on underserved communities; (2) the intersection of climate change and invasive species; and, (3) an assessment of national priorities related to invasive species.

Meeting Agenda: The meeting agenda will consist of an opening session with remarks from NISC member agencies, updates on priority NISC and NISC member agency activities, discussion of outputs by the three subcommittees, and consideration of new issues for ISAC input and advice. Opportunities for public comment will be provided before the conclusion of each meeting day.

The final agenda and other reference documents for discussion during the meeting will be available for public viewing as they become available, but no later than 48 hours prior to the start of the meeting at https://www.invasivespecies.gov.

Meeting Registration: All meeting participants and interested members of the public must register at https://forms.office.com/g/5TwFXSkEpf to attend the meeting in-person or observe the general session virtually. Due to the limited capacity at the meeting venue, and limited connections available for virtual observation, individuals must register no later than Friday, November 10, 2023; 3:00 p.m. (ET).

Meeting Accessibility/Special Accommodations: The meeting is open to the public. Registration is required (see Meeting Registration above). Please make requests in advance for sign language interpreter services, assistive listening devices, or other reasonable accommodations. Please contact Kelsey Brantley at kelsey_brantley@ios.doi.gov, at least seven (7) business days prior to the meeting to give the Department of the Interior sufficient time to process your request. All reasonable accommodation requests are managed on a case-by-case basis.

Public Comment: Interested members of the public may provide either oral or written comments to ISAC for consideration. Oral comments may be given during designated times as specified in the meeting agenda. Written comments must be submitted by email to Kelsey Brantley at kelsey_brantley@ios.doi.gov, no later than Friday, November 10, 2023; 3:00 p.m. (ET). All written comments will be provided to members of the ISAC. Individuals who wish to expand upon their oral statements, or those who had wished to speak but could not be accommodated on the agenda, may submit written comments to Kelsey Brantley at kelsey_brantley@ios.doi.gov, up to 30 days following the meeting.

All comments will be made part of the public record and will be electronically distributed to all ISAC members. The detailed meeting minutes will be available for public inspection within 90 days of the meeting.

Public Disclosure of Comments: Before including your address, phone number, email address, or other personal identifying information in your written comments, you should be aware that your entire comment including your personal identifying information will be made publicly available. While you can ask us in your comment to withhold your personal identifying information from public review, we cannot guarantee that we will be able to do so.

Authority: 5 U.S.C. ch. 10.

Stanley W. Burgiel,
Executive Director, National Invasive Species Council.

[FR Doc. 2023-23611 Filed 10-24-23; 8:45 am]

BILLING CODE 4334-63-P